DEPARTMENT OF TRANSPORTATION

Federal Aviation Administration

Notice of Intent To Rule on Application 04-04-C-00-GEG to Impose and Use and Impose Only the Revenue from a Passenger Facility Charge (PFC) at Spokane International Airport, Submitted by Spokane Airport Board, Spokane International Airport, Spokane, Washington

AGENCY: Federal Aviation Administration (FAA), DOT.

ACTION: Notice of intent to rule on application.

SUMMARY: This correction incorporates information from the public agency's application. In notice document 04-9922 beginning on page 24216 in the issue of Monday, May 3, 2004, make the following correction:

In the second column: Addresses: Change mailing address of Mr. John G. Morrison, CEO/Executive Director to 9000 W. Airport Drive, Suite 204, Spokane, WA 99224-8700.

Issued in Renton, Washington, on May 3, 2004.
David A. Field,
Manager, Planning, Programming and Capacity Branch, Northwest Mountain Region.

[FR Doc. 04-10694 Filed 5-10-04; 8:45 am]

BILLING CODE 4910-13-M